DEPARTMENT OF INTERIOR

Bureau of Land Management

[CA-160-1220-00]

Meeting of the Central California Resource Advisory Council

AGENCY: Bureau of Land Management, Department of the Interior.

ACTION: Meeting of the Central California Resource Advisory Council.

SUMMARY: Pursuant to the authorities in the Federal Advisory Committee Act (Pub. L. 92-463) and the Federal Land Policy and Management Act of 1976 (sec. 309), the Bureau of Land Management Resource Advisory Council for Central California will meet in Sacramento.

DATES: Thursday and Friday, November 30-December 1, 2000.

ADDRESSES: BLM-California State Office, 2135 Butano Drive, Sacramento, CA 95825.

SUPPLEMENTARY INFORMATION: The 12 member Central California Resource Advisory Council is appointed by the Secretary of the Interior to advise the Bureau of Land Management on public land issues. On Friday morning, the Council will hold a satellite teleconference with Secretary of the Interior Bruce Babbitt, and will meet with new BLM-California State Director Mike Pool. Other agenda items for the two meetings include a discussion of the BLM land exchange program, and a review of Council's proposed standards and guidelines for the recreation program. There will be a public comment period at 11:30 a.m. Thursday and at 1 p.m. on Friday at which time the Council will hear comments on any public land issue. Written comments will also be accepted, either at the meeting or at the address below.

FOR FURTHER INFORMATION CONTACT: Larry Mercer, Public Affairs Officer, Bureau of Land Management, 3801 Pegasus Drive, Bakersfield, CA 93308, telephone 661-391-6010.

Dated: November 9, 2000.
Ron Fellows,
Field Manager.

[FR Doc. 00-29397 Filed 11-15-00; 8:45 am]

BILLING CODE 4310-40-M